DEPARTMENT OF COMMERCE

[I.D. 082901C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Implantation and Recovery of Archival Tags.

Form Number(s): None.

OMB Approval Number: 0648-0338.

Type of Request: Regular submission.

Burden Hours: 15.

Number of Respondents: 20.

Average Hours Per Response: 30 minutes for tag recovery and notification, 30 minutes for notification of tag implantation, and 1 hour for a report of tag implantation

Needs and Uses: Under a scientific research exemption any person may catch, possess, retain, and land any regulated species in which an archival tag has been affixed or implanted, provided that the person immediately reports the landing to NMFS. In addition, any person affixing or implanting an archival tag into a regulated species is required to provide NMFS with written notification in advance of beginning the tagging activity and to provide a written report upon completion of the activity.

Affected Public: Individuals and households, business or other for-profit organizations, not-for-profit institutions.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 24, 2001.
Gwellnar Banks,
Management Analyst, Office of the Chief Information Officer.

[FR Doc. 01-22183 Filed 9-4-01; 8:45 am]

BILLING CODE 3510-22-S